DEPARTMENT OF TRANSPORTATION

Federal Highway Administration

23 CFR Part 450

[FHWA Docket No. FHWA-2001-10836]

FHWA RIN 2125-AE92

Metropolitan Transportation Planning and Programming

AGENCY: Federal Highway Administration (FHWA), DOT.

ACTION: Correction to final rule.

SUMMARY: This document corrects a typographical error in the FHWA final rule, published jointly with the Federal Transit Administration (FTA), on October 7, 2002, at 67 FR 62370. The final rule amends the regulation on Planning and Assistance Standards that govern the development of transportation plans and programs for urbanized (metropolitan) areas. The FTA has codified the FHWA regulations for Metropolitan Transportation Planning and Programming into its regulations at 49 CFR 613 and joins the FHWA in making this change. The final rule provides the New York City metropolitan area additional time to review and update its transportation plan by waiving the regulatory requirement for a triennial plan update for the New York City metropolitan area for up to three years, until September 30, 2005. The docket number that appeared at the heading of the final rule was incorrect. This notice provides the current docket number regarding the Metropolitan Transportation Planning and Programming final rule as FHWA-2001-10836.

EFFECTIVE DATE: October 7, 2002.

FOR FURTHER INFORMATION CONTACT: Mr. John Humeston, Metropolitan Planning and Policies Team (HEPM), (404) 562-3667 (metropolitan planning), 60 Forsyth Street, Suite 8M5; Atlanta, Georgia 30303-3104; or Mr. Reid Alsop, Office of the Chief Counsel (HCC-31), (202) 366-1371; 400 Seventh Street, SW., Washington, D.C. 20590. Office hours are from 7:45 a.m. to 4:15 p.m., e.t., Monday through Friday, except Federal holidays.

SUPPLEMENTARY INFORMATION:

Electronic Access

An electronic copy of this document may be downloaded using a computer, modem and suitable communications software from the Government Printing Office's Electronic Bulletin Board Service at (202) 512-1661. Internet users may reach the Office of the Federal Register's home page at: http://www.archives.gov and the Government Printing Office's Web page at: http://www.access.gpo.gov/nara.

Background

On October 7, 2002, at 67 FR 62370, the FHWA, jointly with the FTA, issued a final rule to provide the New York City metropolitan area additional time to review and update its transportation plan by waiving the regulatory requirement for a triennial plan update for the New York City metropolitan area for up to three years, until September 30, 2005. This action was necessary because the New York City Metropolitan Transportation Council's (NYMTC) offices were destroyed by the terrorist attacks that occurred on September 11, 2001, and without this waiver, Federal highway and transit funding could be disrupted after September 30, 2002. The purpose of this notice is to correct the docket number to the final rule. The correct docket number for the final rule is FHWA-2001-10836.

Authority: 23 U.S.C. 134, 135, 217(g), 315; 42 U.S.C. 7410 et seq.; 49 U.S.C. 5303-5306; 49 CFR 1.48(b) and 1.51.

Issued on: November 5, 2002.
James A. Rowland,
Chief Counsel, Federal Highway Administration.

[FR Doc. 02-28643 Filed 11-8-02; 8:45 am]

BILLING CODE 4910-22-P